DEPARTMENT OF THE TREASURY

Office of Thrift Supervision

[AC-43: OTS No. H-4707]

Fox Chase Bancorp, Inc., Hatboro, PA; Approval of Conversion

Application Notice is hereby given that on May 14, 2010, the Office of Thrift Supervision approved the application of Fox Chase MHC and Fox Chase Bank, Hatboro, Pennsylvania, to convert to the stock form of organization. Copies of the application are available for inspection by appointment (phone number: 202-906-5922 or e-mail Public.Info@OTS.Treas.gov) at the Public Reading Room, 1700 G Street, NW., Washington, DC 20552, and the OTS Northeast Regional Office, Harborside Financial Center Plaza Five, Suite 1600, Jersey City, NJ 07311.

Dated: May 26, 2010.
By the Office of Thrift Supervision.
Sandra E. Evans,
Federal Register Liaison.

[FR Doc. 2010-13208 Filed 6-2-10; 8:45 am]

BILLING CODE 6720-01-M